NATIONAL SCIENCE FOUNDATION

Toward Innovative Spectrum-Sharing Technologies: Wireless Spectrum Research and Development Senior Steering Group (WSRD SSG) Workshop III

AGENCY: The National Coordination Office (NCO) for Networking and Information Technology Research and Development (NITRD).

ACTION: Notice.

FOR FURTHER INFORMATION CONTACT: Wendy Wigen at 703-292-4873 or wigen@nitrd.gov. Individuals who use a telecommunications device for the deaf (TDD) may call the Federal Information Relay Service (FIRS) at 1-800-877-8339, which is accessible 24 hours a day, 7 days a week, 365 days a year (including Federal holidays).

DATES: July 24, 2012.

SUMMARY: Representatives from Federal research agencies, private industry, and academia will build on the outcomes of Workshop I and Workshop II by identifying realistic projects whose implementation will significantly support the plan to meet the Presidential Memorandum's goals.

SUPPLEMENTARY INFORMATION: Overview: This notice is issued by the National Coordination Office for the Networking and Information Technology Research and Development (NITRD) Program. Agencies of the NITRD Program are holding the third in a series of workshops to bring together experts from private industry and academia to help “create and implement a plan to facilitate research, development, experimentation, and testing by researchers to explore innovative spectrum-sharing technologies, including those that are secure and resilient.” The workshop will take place on July 24, 2012 from 8:15 a.m. to 5 p.m. MT in Boulder, Colorado at the Millennium Harvest House Boulder, 1325 Twenty-Eighth Street, 80302-6899. This event will be webcast. The event agenda and information about the webcast will be available the week of the event at: http://www.nitrd.gov/Subcommittee/wirelessspectrumrd.aspx.

Background: The Presidential Memorandum on Unleashing the Wireless Broadband Revolution, released on June 28, 2010, directed the federal agencies to create and implement a plan that “facilitates research, development, experimentation, and testing by researchers to explore innovative spectrum-sharing technologies.”

The WSRD has held two workshops that addressed the challenge defined in that Presidential Memorandum and which included input from the academic and industry sectors. During WSRD's first Workshop held at Boulder, CO, on July 26, 2011, the participants indicated that a national-level testing environment is critical for validating spectrum sharing technology under realistic conditions; they also emphasized the value of a spectrum sharing testing environment for a diversity of users. At a second workshop, held in Berkeley, CA, in January, 2012, key concepts and criteria were established for spectrum sharing test and evaluation capabilities.

This third workshop will build on the progress we have made by identifying realistic projects whose implementation will significantly support the plan to meet the Presidential Memorandum's goals. This workshop will gather diverse, knowledgeable, and forward thinking stakeholders to advise us on this important step forward.

Submitted by the National Science Foundation for the National Coordination Office (NCO) for Networking and Information Technology Research and Development (NITRD) on July 5, 2012.

Suzanne H. Plimpton,
Reports Clearance Officer, National Science Foundation.

[FR Doc. 2012-16804 Filed 7-9-12; 8:45 am]

BILLING CODE 7555-01-P